DEPARTMENT OF STATE

[Public Notice 4068]

Bureau of Political-Military Affairs; Use of Exemption at Section 123.17 of the ITAR for Zimbabwe

AGENCY: Department of State.

ACTION: Notice.

SUMMARY: Notice is hereby given that the license exemptions at section 123.17 of the International Traffic in Arms Regulations (ITAR) (22 CFR parts 120-130) are authorized for use in connection with certain exports of firearms and ammunition to Zimbabwe.

EFFECTIVE DATE: July 17, 2002.

FOR FURTHER INFORMATION CONTACT: Ms. Mary Sweeney, Office of Defense Trade Controls, Bureau of Political-Military Affairs, Department of State, Telephone (202) 663-2700 or FAX (202) 261-8199.

SUPPLEMENTARY INFORMATION: Due to the Government of Zimbabwe subverting the democratic process through a badly flawed presidential election, orchestrating a campaign of violence and intimidation against its political opposition, and having a blatant disregard for the rule of law and serious human rights abuses, effective April 17, 2002, the Department suspended all licenses and approvals to export or otherwise transfer defense articles and defense services to Zimbabwe. The Department also instituted a policy of denial for new applications for licenses and other approvals to export or otherwise transfer defense articles and defense services to Zimbabwe (67 FR 18978). Also, the denial policy precluded the use of any exemption from licensing or other approval requirements in the ITAR. This notice modifies the denial policy by authorizing the use of the license exemptions at section 123.17 of the ITAR for exports of firearms and ammunition to Zimbabwe when for personal use by individuals (not for resale or retransfer, including to the Government of Zimbabwe) and the firearms will be returned to the United States.

This action has been taken pursuant to section 38 of the AECA (22 U.S.C. 2778) and relevant provisions of the ITAR in furtherance of the foreign policy of the United States.

Dated: July 17, 2002.
Gregory M. Suchan,
Acting Assistant Secretary, Bureau of Political-Military Affairs, Department of State.

[FR Doc. 02-18606 Filed 7-22-02; 8:45 am]

BILLING CODE 4710-25-P